OFFICE OF THE UNITED STATES TRADE REPRESENTATIVE

Generalized System of Preferences (GSP): Results of the 2015/2016 Annual GSP Review

AGENCY: Office of the United States Trade Representative.

ACTION: Notice.

SUMMARY: This notice announces the results of the 2015/2016 Annual GSP Review with respect to: Products considered for addition to the list of eligible products for GSP; products considered for removal from the list of eligible products for certain beneficiary countries; decisions related to competitive need limitations (CNLs), including petitions for waivers of CNLs; and requests for redesignations of products previously excluded from GSP eligibility for certain countries.

FOR FURTHER INFORMATION CONTACT: Erland Herfindahl, Deputy Assistant U.S. Trade Representative for GSP, Office of the United States Trade Representative. The telephone number is (202) 395-6364, the fax number is (202) 395-9674, and the email address is Erland_Herfindahl@ustr.eop.gov.

SUPPLEMENTARY INFORMATION: The GSP program provides for the duty-free treatment of designated articles when imported from beneficiary developing countries. The GSP program is authorized by Title V of the Trade Act of 1974 (19 U.S.C. 2461 et seq.), as amended, and is implemented in accordance with Executive Order 11888 of November 24, 1975, as modified by subsequent Executive Orders and Presidential Proclamations.

Results of the 2015/2016 Annual GSP Review

In the 2015/2016 Annual GSP Review, the TPSC reviewed: (1) Petitions to add 30 products to the list of those eligible for duty-free treatment under GSP; (2) petitions to remove GSP eligibility of five products for certain GSP beneficiary countries; (3) four petitions to waive CNLs for products from certain beneficiary countries; (4) products eligible for de minimis waivers of CNLs; (5) requests for redesignation of products previously excluded from GSP eligibility for certain beneficiary countries; and (6) country practice petitions previously submitted as part of the 2015/2016 Annual Review and earlier reviews.

In Presidential Proclamation 9466 of June 30, 2016 the President implemented his decisions regarding GSP product eligibility issues arising out of the 2015/2016 Annual GSP Review, including CNL waivers and product redesignations. This notice provides further information on the results of the 2015/2016 Annual GSP Review, including disposition of country practice petitions. These results, comprising seven lists, are available for public viewing at http://www.regulations.gov in docket USTR-2015-0013, under “Supporting and Related Materials” and at https://ustr.gov/issue-areas/preference-programs/generalized-system-preferences-gsp/current-reviews/gsp-20152016.

Specific Results

The Administration added 27 travel and luggage goods products to the list of products eligible for duty-free treatment for least developed beneficiary developing countries (LDBDCs) and African Growth and Opportunity Act (AGOA) countries and has decided to defer action on a decision for non-LDBDCs. The Administration denied the petition to make certain effervescent wine (HTS 2204.21.20) eligible for duty-free treatment under GSP. The Administration has decided to defer a decision on final disposition of petitions to add essential oils of lemon (HTS 3301.13.00) and high-carbon ferromanganese (HTS 7202.11.50) to the list of products eligible for duty-free treatment under GSP for all GSP beneficiary countries. See List I (Decision on Petition to Add a Product to the List of Eligible Products for GSP).

The President removed polyethylene terephthalate (PET) resin (HTS 3907.60.00) and certain fluorescent brightening agents (HTS 3204.20.10 and HTS 3204.20.80) from India from GSP eligibility based on petitions from interested parties. The Administration denied the petitions to remove certain fluorescent brightening agents (HTS 3204.20.10 and HTS 3204.20.80) from Indonesia and PET film (HTS 3920.62.00 and 3921.90.40) from Brazil. See List II (Decisions on Petitions to Remove a Product from Certain Beneficiary Countries from GSP).

Articles that exceeded the CNLs in 2015 and that, effective July 1, 2016, are excluded from GSP eligibility when imported from a specific beneficiary country are described in List III (Products Newly Subject to Exclusion by Competitive Need Limitation).

The President granted petitions for waivers of CNLs for the following products: (1) Certain pitted dates (HTS 0804.10.60) from Tunisia; (2) certain inactive yeasts (HTS 2102.20.60) from Brazil; and (3) certain nonalcoholic beverages (HTS 2202.90.90) from Thailand. See List IV (Products Receiving a Waiver of the Competitive Need Limitation). The President denied the petition for a waiver of CNLs for certain motor vehicle parts and accessories (HTS 8707.50.95) from India.

The President granted de minimis waivers to 111 articles that exceeded the 50-percent import-share CNL but for which the aggregate value of all U.S. imports of that article was below the 2015 de minimis level of $22.5 million. See List V (Decisions on Products Eligible for De Minimis Waivers). The articles for which de minimis waivers were granted will continue to be eligible for duty-free treatment under GSP when imported from the associated countries.

No products previously excluded from GSP eligibility for certain countries were redesignated as eligible for GSP as a result of the 2015/2016 Annual Review.

Country Practice Petitions

The status of country practice petitions considered in the 2015/2016 GSP Annual Review is described in List VI (Active GSP Country Practice Reviews). This list includes petitions accepted as part of annual reviews from previous years.

Erland Herfindahl,
Deputy Assistant U.S. Trade Representative for the Generalized System of Preferences and Chair of the GSP Subcommittee of the Trade Policy Staff Committee, Office of the U.S. Trade Representative.

[FR Doc. 2016-17202 Filed 7-20-16; 8:45 am]

BILLING CODE 3290-F6-P